DEPARTMENT OF ENERGY

Federal Energy Regulatory Commission

[Docket No. EL07-56-000]

Allegheny Electric Cooperative, Inc., Borough of Chambersburg, Pennsylvania; City and Towns of Hagerstown, Thurmont, and Williamsport, Maryland; District of Columbia Office of the People's Counsel; Illinois Citizens Utility Board; Indiana Office of Utility Consumer Counsel; Maryland Office of People's Counsel; New Jersey Division of Rate Counsel; Office of the Attorney General of Virginia, Division of Consumer Counsel; Office of the Ohio Consumer's Counsel; Old Dominion Electric Cooperative; Pennsylvania Office of Consumer Advocate; PJM Industrial Customer Coalition; Southern Maryland Electric Cooperative, Inc.; State of Delaware, Division of the Public Advocate v. PJM Interconnection, L.L.C.; Notice of Complaint

April 18, 2007.

Take notice that on April 17, 2007, the above-referenced “Joint Complainants” tendered for filing, pursuant to sections 205 and 206 of the Federal Power Act, 16 U.S.C. 824d and 824e (2006) and Rule 206 of Commission's Rules of Practice and Procedure, 18 CFR 385.206, a complaint for a Show Cause Order and assurances from PJM Interconnection, L.L.C. that it has not violated, and will not violate, its tariff requirements pertaining to market monitoring.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 30, 2007.

Kimberly D. Bose,
Secretary.

[FR Doc. E7-7801 Filed 4-24-07; 8:45 am]

BILLING CODE 6717-01-P